NUCLEAR REGULATORY COMMISSION

Sunshine Federal Register Notice

Agency Holding the Meetings: Nuclear Regulatory Commission.

DATES: Week of August 18, 2008.

Place: Commissioners' Conference Room, 11555 Rockville Pike, Rockville, Maryland.

Status: Public and Closed.

Additional Items To Be Considered:

Week of August 18, 2008

Friday, August 22, 2008

9:35 a.m. Affirmation Session (Public Meeting) (Tentative)

a. Concerning Petitions to Intervene related to Entergy Nuclear Operations, Inc. (Pilgrim Nuclear Power Station), Application for Order Approving Indirect Transfer of Control of Licenses (filed July 30, 2007). (Tentative).

b. U.S. Department of Energy (High Level Waste Repository)—Petitions of the State of Nevada and Dr. Jacob Paz to Reject the Department of Energy's (DOE) Application to Construct a Geologic Repository at Yucca Mountain, Nevada (Tentative).

* The schedule for Commission meetings is subject to change on short notice. To verify the status of meetings, call (recording)—(301) 415-1292. Contact person for more information: Michelle Schroll, (301) 415-1662.

* * * * *

Additional Information: By a vote of 4-0 on August 20 and 21, 2008, the Commission determined pursuant to U.S.C. 552b(e) and § 9.107(a) of the Commission's rules that Affirmation of “Concerning Petitions to Intervene related to Entergy Nuclear Operations, Inc. (Pilgrim Nuclear Power Station), Application for Order Approving Indirect Transfer of Control of Licenses (filed July 30, 2007)” be held August 22, 2008, and on less than one week's notice to the public.

Affirmation of “U.S. Department of Energy (High Level Waste Repository)—Petitions of the State of Nevada and Dr. Jacob Paz to Reject the Department of Energy's (DOE) Application to Construct a Geologic Repository at Yucca Mountain, Nevada (Tentative)” was announced on July 15, 2008, to be held on July 23, 2008 and subsequently was postponed. On August 12, 2008, the Affirmation was rescheduled and announced to be held on August 13, 2008. This Affirmation was postponed again and has been rescheduled on Friday, August 22, 2008 at 9:35 a.m.

The NRC Commission Meeting Schedule can be found on the Internet at: http://www.nrc.gov/about-nrc/policy-making/schedule.html.

The NRC provides reasonable accommodation to individuals with disabilities where appropriate. If you need a reasonable accommodation to participate in these public meetings, or need this meeting notice or the transcript or other information from the public meetings in another format (e.g. braille, large print), please notify the NRC's Disability Program Coordinator, Rohn Brown, at 301-492-2279, TDD: 301-415-2100, or by e-mail at REB3@nrc.gov. Determinations on requests for reasonable accommodation will be made on a case-by-case basis.

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: August 21, 2008 .
R. Michelle Schroll,
Office of the Secretary.

[FR Doc. E8-19828 Filed 8-22-08; 11:15 am]

BILLING CODE 7590-01-P